FEDERAL COMMUNICATIONS COMMISSION

[IB Docket No. 16-185; DA 21-1398; FRS 57855]

Informal Working Group-1, Informal Working Group-2, Informal Working Group-3, and Informal Working Group-4 of the World Radiocommunication Conference Advisory Committee Schedule Their Meetings

AGENCY: Federal Communications Commission.

ACTION: Notice.

SUMMARY: This notice advises interested persons that Informal Working Group 1 (IWG-1), Informal Working Group 2 (IWG-2,) Informal Working Group 3 (IWG-3, and Informal Working Group 4 (IWG-4) of the 2023 World Radiocommunication Conference Advisory Committee (WRC-23 Advisory Committee) have scheduled meetings as set forth below. The meetings are open to the public.

DATES: IWG-3: Tuesday, December 14, 2021 (11:00 a.m.-12:30 p.m. EDT); IWG-4: Tuesday, December 14, 2021 (1:00 p.m.-2:30 p.m. EDT); IWG-1, Wednesday, December 15, 2021 (10:30 a.m.-12:00 p.m. EDT); IWG-2, Wednesday, December 15, 2021 (12:00 p.m.-1:00 p.m. EDT); IWG-3: Thursday, January 6, 2022 (11:00 a.m.-1:00 p.m. EDT); IWG-4, Thursday, January 6, 2022 (1:30 p.m.-3:00 p.m. EDT); IWG-1, Wednesday, January 12, 2022 (10:00 a.m.-12:00 p.m. EDT); IWG-2, Wednesday, Wednesday, January 12, 2022 (1:00 p.m.-3:00 p.m. EDT); IWG-3: Tuesday, January 18, 2022 (11:00 a.m.-1:00 p.m. EDT); IWG-4: Tuesday, January 18, 2022 (1:30 p.m.-3:00 p.m. EDT); IWG-2, Wednesday, January 19, 2022 (11:00 a.m.-12:00 p.m. EDT); IWG-1, Wednesday, January 19, 2022 1:00 p.m.-3:00 p.m. (1:00 p.m.-3:00 p.m. EDT).

ADDRESSES: The meetings will be held virtually.

FOR FURTHER INFORMATION CONTACT: Dante Ibarra, Designated Federal Official, World Radiocommunication Conference Advisory Committee, FCC International Bureau, Global Strategy and Negotiation Division, at Dante.Ibarra@fcc.gov, (202)-418-0610 or WRC-23@fcc.gov.

SUPPLEMENTARY INFORMATION: The FCC established the Advisory Committee to provide advice, technical support and recommendations relating to the preparation of United States proposals and positions for the 2023 World Radiocommunication Conference (WRC-23).

In accordance with the Federal Advisory Committee Act, Public Law 92-463, as amended, this notice advises interested persons of the IWG-1, IWG-2, IWG-3 and IWG-4 of the WRC-23 Advisory Committee scheduled meetings. The Commission's WRC-23 website (www.fcc.gov/wrc-23) contains the latest information on all scheduled meetings, meeting agendas, and WRC-23 Advisory Committee matters.

Below is additional IWG meeting information:

WRC-23 Advisory Committee

Schedule of Meetings of Informal Working Groups 1, 2, 3 and 4

Informal Working Group 1: Maritime, Aeronautical and Radar Services

Chair—Damon Ladson, dladson@hwglaw.com, telephone: (202) 730-1315

Vice Chair—Kim Kolb, kim.l.kolb@boeing.com, telephone: (703) 465-3373

FCC Representatives: Louis Bell, louis.bell@fcc.gov, telephone: (202) 418-1641; Gregory Baker, Gregory.baker@fcc.gov, telephone: (202) 418-0611

IWG-1—Meetings

IWG-1 Meeting Date: Wednesday, December 15, 2021

Time: 10:30 a.m.-12:00 p.m.

Join ZoomGov Meeting: https://fcc-gov.zoomgov.com/j/1617778405?pwd=dC83a2FoUXBERnEvYVFJeXFndStnQT09

Meeting ID: 161 777 8405

Passcode: 185226

One tap mobile:

+16692545252,,1617778405#,,,,*185226# US (San Jose)

+16468287666,,1617778405#,,,,*185226# US (New York)

Dial by your location:

+1 669 254 5252 U.S. (San Jose)

+1 646 828 7666 U.S. (New York)

+1 551 285 1373 U.S.

Meeting ID: 161 777 8405

Passcode: 185226

Find your local number: https://fcc-gov.zoomgov.com/u/adyt3qbEnl

IWG-1 Meeting Date: Wednesday, January 12, 2022

Time: 10:00 a.m.-12:00 p.m.

Join ZoomGov Meeting: https://fcc-gov.zoomgov.com/j/1617137240?pwd=SndFOGU4MFduREJ4ZFFabWhQbXJOQT09

Meeting ID: 161 713 7240

Passcode: 812256

One tap mobile:

+16692545252,,1617137240#,,,,*812256# U.S. (San Jose)

+16468287666,,1617137240#,,,,*812256# U.S. (New York)

Dial by your location:

+1 669 254 5252 U.S. (San Jose)

+1 646 828 7666 U.S. (New York)

+1 551 285 1373 U.S.

Meeting ID: 161 713 7240

Passcode: 812256

Find your local number: https://fcc-gov.zoomgov.com/u/aeyNT7Nwcg

IWG-1 Meeting Date: Wednesday, January 19, 2022

Time: 1:00 p.m.-3:00 p.m.

Join ZoomGov Meeting: https://fcc-gov.zoomgov.com/j/1609602718?pwd=UnQ5Qy9HT1RzcFQ2QlJvN0w5Sjl4dz09

Meeting ID: 160 960 2718

Passcode: 613945

One tap mobile:

+16692545252,,1609602718#,,,,*613945# U.S. (San Jose)

+16468287666,,1609602718#,,,,*613945# U.S. (New York)

Dial by your location:

+1 669 254 5252 U.S. (San Jose)

+1 646 828 7666 U.S. (New York)

+1 551 285 1373 U.S.

Meeting ID: 160 960 2718

Passcode: 613945

Find your local number: https://fcc-gov.zoomgov.com/u/aHL4LYTaE

Informal Working Group 2: Terrestrial Services

Chair—Jayne Stancavage, Jayne.Stancavage@intel.com, telephone: (408) 887-3186

Vice Chair—Jennifer Oberhausen, joberhausen@ctia.org, telephone: (202) 736-3235

FCC Representatives: Louis Bell, louis.bell@fcc.gov, telephone: (202) 418-1641; Dante Ibarra, dante.ibarra@fcc.gov, telephone: (202) 418-0610

IWG-2—Meetings

IWG-2 Meeting Date: Wednesday, December 15, 2021

Time: 12:00 p.m.-1:00 p.m.

Join ZoomGov Meeting: https://fcc-gov.zoomgov.com/j/1616596760?pwd=TTk3SWFqVHFXb3BKampIS2o4QnM4UT09

Meeting ID: 161 659 6760

Passcode: 804178

One tap mobile:

+16692545252,,1616596760#,,,,*804178# U.S. (San Jose)

+16468287666,,1616596760#,,,,*804178# U.S. (New York)

Dial by your location:

+1 669 254 5252 U.S. (San Jose)

+1 646 828 7666 U.S. (New York)

+1 551 285 1373 U.S.

Meeting ID: 161 659 6760

Passcode: 804178

Find your local number: https://fcc-gov.zoomgov.com/u/ad56NHDwcs

IWG-2 Meeting Date: Wednesday, January 12, 2022

Time: 1:00 p.m.-3:00 p.m.

Join ZoomGov Meeting: https://fcc-gov.zoomgov.com/j/1609999223?pwd=RXFFd3JMM2JqdGhVL1ZWWXNjeHowZz09

Meeting ID: 160 999 9223

Passcode: 600759

One tap mobile:

+16692545252,,1609999223#,,,,*600759# U.S. (San Jose)

+16468287666,,1609999223#,,,,*600759# U.S. (New York)

Dial by your location:

+1 669 254 5252 U.S. (San Jose)

+1 646 828 7666 U.S. (New York)

+1 551 285 1373 U.S.

Meeting ID: 160 999 9223

Passcode: 600759

Find your local number: https://fcc-gov.zoomgov.com/u/abhw9i3OfL

IWG-2 Meeting Date: Wednesday, January 19, 2022

Time: 11:00 a.m.-12:00 p.m.

Join ZoomGov Meeting: https://fcc-gov.zoomgov.com/j/1600848119?pwd=M3EvNUdqdFhQTGpXUnZTR0F0SDdpZz09

Meeting ID: 160 084 8119

Passcode: 413464

One tap mobile:

+16692545252,,1600848119#,,,,*413464# U.S. (San Jose)

+16468287666,,1600848119#,,,,*413464# U.S. (New York)

Dial by your location:

+1 669 254 5252 U.S. (San Jose)

+1 646 828 7666 U.S. (New York)

+1 551 285 1373 U.S.

Meeting ID: 160 084 8119

Passcode: 413464

Find your local number: https://fcc-gov.zoomgov.com/u/acqUlRpYXb

Informal Working Group 3: Space Services

Chair—Zachary Rosenbaum, zachary.rosenbaum@ses.com, telephone: (814) 233-7373

Vice Chair—Vacant

FCC Representatives: Clay DeCell, clay.decell@fcc.gov, telephone: (202) 418-0803; Kathyrn Medley, kathyrn.medley@fcc.gov, telephone: (202) 418-1211; Eric Grodsky, eric.grodsky@fcc.gov, telephone: (202) 418-0563; Dante Ibarra, dante.ibarra@fcc.gov, telephone: (202) 418-0610

IWG-3—Meeting

IWG-3 Meeting Date: Tuesday, December 14, 2021

Time: 11:00 a.m.-12:30 p.m.

Join ZoomGov Meeting: https://fcc-gov.zoomgov.com/j/1618565124?pwd=NWpIL0ZZSFB3Q0tzOEN1MS8zcFRpQT09

Meeting ID: 161 856 5124

Passcode: 262824

One tap mobile:

+16692545252,,1618565124#,,,,*262824# U.S. (San Jose)

+16468287666,,1618565124#,,,,*262824# U.S. (New York)

Dial by your location:

+1 669 254 5252 U.S. (San Jose)

+1 646 828 7666 U.S. (New York)

+1 551 285 1373 U.S.

Meeting ID: 161 856 5124

Passcode: 262824

Find your local number: https://fcc-gov.zoomgov.com/u/ad3N13PmvZ

IWG-3 Meeting Date: Thursday, January 6, 2022

Time: 11:00 a.m.-1:00 p.m.

Join ZoomGov Meeting: https://fcc-gov.zoomgov.com/j/1618051603?pwd=Y2xDdFRmaU4ycG1idUl6eHl4ellqQT09

Meeting ID: 161 805 1603

Passcode: 959484

One tap mobile:

+16692545252,,1618051603#,,,,*959484# U.S. (San Jose)

+16468287666,,1618051603#,,,,*959484# U.S. (New York)

Dial by your location:

+1 669 254 5252 U.S. (San Jose)

+1 646 828 7666 U.S. (New York)

+1 551 285 1373 U.S.

Meeting ID: 161 805 1603

Passcode: 959484

Find your local number: https://fcc-gov.zoomgov.com/u/abtCQiKA73

IWG-3 Meeting Date: Tuesday, January 18, 2022

Time: 11:00 a.m.-1:00 p.m.

Join ZoomGov Meeting: https://fcc-gov.zoomgov.com/j/1619422140?pwd=V0c1ZXlPTWpWbVNQNUdzUytxL1lGdz09

Meeting ID: 161 942 2140

Passcode: 248652

One tap mobile:

+16692545252,,1619422140#,,,,*248652# U.S. (San Jose)

+16468287666,,1619422140#,,,,*248652# U.S. (New York)

Dial by your location:

+1 669 254 5252 U.S. (San Jose)

+1 646 828 7666 U.S. (New York)

+1 551 285 1373 U.S.

Meeting ID: 161 942 2140

Passcode: 248652

Find your local number: https://fcc-gov.zoomgov.com/u/asiZRIBVs

Informal Working Group 4: Regulatory Issues

Chair—David Goldman, david.goldman@spacex.com, telephone: (202) 649-2641

Vice Chair—Giselle Creeser, giselle.creeser@intelsat.com, telephone: (703) 559-7851

FCC Representatives: Dante Ibarra, dante.ibarra@fcc.gov, telephone: (202) 418-0610; Clay DeCell, clay.decell@fcc.gov, telephone: (202) 418-0803

IWG-4—Meetings

IWG-4 Meeting Date: Tuesday, December 14, 2021

Time:1:00 p.m.-2:30 p.m.

Join ZoomGov Meeting: https://fcc-gov.zoomgov.com/j/1611531963?pwd=Unh5OW9PU0pzOFlUdnRKb0NQLzAzQT09

Meeting ID: 161 153 1963

Passcode: 231175

One tap mobile:

+16692545252,,1611531963#,,,,*231175# U.S. (San Jose)

+16468287666,,1611531963#,,,,*231175# U.S. (New York)

Dial by your location:

+1 669 254 5252 U.S. (San Jose)

+1 646 828 7666 U.S. (New York)

+1 551 285 1373 U.S.

Meeting ID: 161 153 1963

Passcode: 231175

Find your local number: https://fcc-gov.zoomgov.com/u/auIC4KVBe

IWG-4 Meeting Date: Thursday, January 6, 2022

Time: 1:30 p.m.-3:00 p.m.

Join ZoomGov Meeting: https://fcc-gov.zoomgov.com/j/1612806478?pwd=RDRiM3JkbDl4ZXdSNjVWMXN2U25sQT09

Meeting ID: 161 280 6478

Passcode: 991779

One tap mobile:

+16692545252,,1612806478#,,,,*991779# U.S. (San Jose)

+16468287666,,1612806478#,,,,*991779# U.S. (New York)

Dial by your location:

+1 669 254 5252 U.S. (San Jose)

+1 646 828 7666 U.S. (New York)

+1 551 285 1373 U.S.

Meeting ID: 161 280 6478

Passcode: 991779

Find your local number: https://fcc-gov.zoomgov.com/u/acRbViq7FQ

IWG-4 Meeting Date: Tuesday, January 18, 2022

Time: 1:30 p.m.-3:00 p.m.

Join ZoomGov Meeting:https://fcc-gov.zoomgov.com/j/1604198545?pwd=aGJVcEJ1UEpLWm1NTms5UExqcnlsUT09

Meeting ID: 160 419 8545

Passcode: 236341

One tap mobile:

+16692545252,,1604198545#,,,,*236341# U.S. (San Jose)

+16468287666,,1604198545#,,,,*236341# U.S. (New York)

Dial by your location:

+1 669 254 5252 U.S. (San Jose)

+1 646 828 7666 U.S. (New York)

+1 551 285 1373 U.S.

Meeting ID: 160 419 8545

Passcode: 236341

Find your local number: https://fcc-gov.zoomgov.com/u/ad242rsX3E

Federal Communications Commission.
Troy Tanner,
Deputy Chief, International Bureau.

[FR Doc. 2021-24999 Filed 11-15-21; 8:45 am]

BILLING CODE 6712-01-P